DEPARTMENT OF VETERANS AFFAIRS

Tiered Pharmacy Copayments for Medications Update

AGENCY: Department of Veterans Affairs.

ACTION: Notice.

SUMMARY: This Department of Veterans Affairs (VA) notice updates the information on Tier 1 medications.

FOR FURTHER INFORMATION CONTACT: Joseph Duran, Office of Community Care (10D), Veterans Health Administration (VHA), Department of Veterans Affairs, 810 Vermont Avenue NW, Washington, DC 20420, Joseph.Duran2@va.gov, (303) 372-4629 (this is not a toll free number).

SUPPLEMENTARY INFORMATION: Section 17.110 of Title 38, Code of Federal Regulations, governs copayments for medications that VA provides to veterans. Section 17.110 provides the methodologies for establishing the copayment amount for each 30-day or less supply of medication provided by VA on an outpatient basis (other than medication administered during treatment). “Tier 1 medication means a multi-source medication that has been identified using the process described in paragraph (b)(2) of this section.”

Section 17.110 provides that a list of Tier 1 medications will either be published as a notice in the Federal Register or will be posted on VA's website at www.va.gov/health at least once per year.

Based on the methodologies set forth in § 17.110, this notice updates the list of Tier 1 medications. Not less than once per year, VA will identify a subset of multi-source medications as Tier 1 medications. Only medications that meet all of the criteria in paragraphs (b)(2)(i), (ii), and (iii) will be eligible to be considered Tier 1 medications, and only those medications that meet all of the criteria in paragraph (b)(2)(i) of this section will be assessed using the criteria in paragraphs (b)(2)(ii) and (iii). As of the date of this notice, the Tier 1 medication list at individual VA medical facilities based on the methodologies in § 17.110 will be posted on VA's website at www.va.gov/health under the heading “Tier 1 Copay Medication List.”

The following table is the Tier 1 Copay Medication List that is effective January 1, 2018, and will remain in effect until December 31, 2018.

Condition | VA product name
Arthritis & Pain | Aspirin buffered tablet. Aspirin chewable tablet.
| Aspirin enteric coated tablet. Allopurinol tablet.
| Diclofenac Sodium EC tablet. Ibuprofen tablet.
| Meloxicam tablet. Naproxen tablet.
Blood Thinners & Platelet Inhibitors. | Clopidogrel Bisulfate tablet. Warfarin Sodium tablet.
Bone Health | Alendronate tablet.
Cholesterol | Atorvastatin tablet. Gemfibrozil tablet.
| Lovastatin tablet. Niacin (Slo-Niacin) tablet.
| Pravastatin tablet. Simvastatin tablet.
Dementia | Donepezil tablet.
Diabetes | Glipizide tablet. Metformin HCL tablet.
| Metformin HCL 24hr (SA) tablet.
Electrolyte Supplement | Potassium SA tablet. Potassium SA Dispersible tablet.
Gastrointestinal Health | Omeprazole EC capsule. Pantoprazole Sodium EC capsule.
| Ranitidine tablet.
Glaucoma & Eye Care | Brimonidine 0.2% solution. Dorzolamide 2%/Timolol 0.5% sol.
| Latanoprost 0.005% solution.
Heart Health & Blood Pressure | Amlodipine tablet. Aspirin (see Arthritis & Pain).
| Atenolol tablet. Carvedilol tablet.
| Chlorthalidone tablet. Clonidine tablet.
| Digoxin tablet. Diltiazem 24HR capsule.
| Diltiazem HCL tablet. Enalapril Maleate tablet.
| Furosemide tablet. Hydralazine HCL tablet.
| Hydrochlorothiazide tablet/capsule. Hydrochlorothiazide/Lisinopril tablet.
| Hydrochlorothiazide/Triamterene cap/tab. Isosorbide Mononitrate SA tablet.
| Lisinopril tablet. Losartan tablet.
| Metoprolol Succinate SA tablet. Metoprolol Tartrate tablet.
| Nifedipine SA capsule. Nitroglycerin sublingual tablet.
| Prazosin HCL capsule. Propranolol HCL tablet.
| Spironolactone tablet. Valsartan tablet.
| Verapamil HCL tablet. Verapamil HCL SA tablet.
Mental Health | Bupropion HCL tablet. Bupropion HCL SA (12HR-SR) tablet.
| Bupropion HCL SA (24HR-XL) tablet. Buspirone HCL tablet.
| Citalopram Hydrobromide tablet. Duloxetine HCL EC capsule.
| Escitalopram Oxalate tablet. Fluoxetine capsule/tablets.
| Mirtazapine tablet. Paroxetine HCL tablet.
| Quetiapine Fumarate tablet. Risperidone tablet.
| Risperidone tablet, disintegrating. Sertraline HCL tablet.
| Trazodone tablet. Venlafaxine HCL tablet.
| Venlafaxine HCL SA tablet/cap.
Parkinson Diseases/Restless Legs Syndrome | Carbidopa/Levodopa tablet.
Seizures | Gabapentin capsule. Lamotrigine tablet.
| Topiramate tablet.
Thyroid Conditions | Levothyroxine Sodium tablet.
Urologic (Bladder & Prostate) Health. | Alfuzosin HCL SA tablet. Doxazosin Mesylate tablet.
| Finasteride tablet. Oxybutynin Chloride tablet.
| Oxybutynin Chloride SA tablet. Tamsulosin HCL capsule.
| Terazosin HCL capsule.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on February 12, 2018, for publication.

Dated: February 12, 2018.
Jeffrey Martin,
Impact Analyst, Office of Regulation Policy & Management, Office of the Secretary, Department of Veterans Affairs.

[FR Doc. 2018-03724 Filed 2-22-18; 8:45 am]

BILLING CODE 8320-01-P